DEPARTMENT OF AGRICULTURE

Submission for OMB Review; Comment Request

July 24, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Institute of Food and Agriculture

Title: Expanded Food and Nutrition Education Program (EFNEP).

OMB Control Number: 0524-0044.

Summary of Collection: The Department of Agriculture's National Institute of Food and Agriculture (NIFA), Expanded Food and Nutrition Education Program (EFNEP) is a unique program that began in 1969 and is designed to reach limited resource audiences, especially youth and families with young children. EFNEP operates in all 50 states, the District of Columbia and in American Samoa, Guam, Micronesia, Northern Marianas, Puerto Rico, and the Virgin Islands. Extension professionals train and supervise paraprofessionals and volunteers who teach food and nutrition information and skills to limited resources families and youth.

Need and Use of the Information: NIFA will collect information using Nutrition Education Evaluation and Reporting System (NEERS), which is an integrated database system that stores information on: (1) Adult program participants, their family structure and dietary practices; (2) youth group participants; and (3) staff, NEERS consists of separate software sub-systems for the County and the State levels (State also refers to U.S. Territories). Without the information it would be extremely difficult for the national office to compare, assess, and analyze the effectiveness and the impact of EFNEP without the annual collection of data.

Description of Respondents: State, Local or Tribal Government.

Number of Respondents: 75.

Frequency of Responses: Recordkeeping; Reporting: Annually.

Total Burden Hours: 93,225.

Ruth Brown,
Departmental Information Collection Clearance Officer.

[FR Doc. 2012-18362 Filed 7-26-12; 8:45 am]

BILLING CODE 3410-09-P